DEPARTMENT OF AGRICULTURE

Forest Service

Notice of Tri-County Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Beaverhead-Deerlodge National Forest's Tri-County Resource Advisory Committee will meet on Thursday, April 14, 2005, from 4 p.m. to 8 p.m. in Deer Lodge, Montana, for a business meeting. The meeting is open to the public.

DATES: Thursday, April 14, 2005.

ADDRESSES: The meeting will be held at the USDA Service Center, 1002 Hollenback Road, Deer Lodge, Montana.

FOR FURTHER INFORMATION CONTACT: Thomas K. Reilly, Designated Forest Official (DFO), Forest Supervisor, Beaverhead-Deerlodge National Forest, at (406) 683-3973.

SUPPLEMENTARY INFORMATION: Agenda topics for this meeting include a review of projects approved and proposed for funding as authorized under Title II of Public Law 106-393, new proposals for funding, review of a community fire plan, and public comment. If the meeting location is changed, notice will be posted in local newspapers, including The Montana Standard.

Dated: March 10, 2005.
Thomas K. Reilly,
Forest Supervisor.

[FR Doc. 05-5144 Filed 3-15-15: 8:45 am]

BILLING CODE 3410-11-M